ENVIRONMENTAL PROTECTION AGENCY

[FRL-9656-1]

Request for Nominations of Candidates to the EPA's Clean Air Scientific Advisory Committee (CASAC) and EPA's Science Advisory Board (SAB)

AGENCY: Environmental Protection Agency.

ACTION: Notice.

SUMMARY: The U.S. Environmental Protection Agency (EPA) invites nominations of scientific experts from a diverse range of disciplinary areas to be considered for appointment to the Clean Air Scientific Advisory Committee (CASAC), the Science Advisory Board (SAB) and four SAB Committees described in this notice. Appointments are anticipated to be filled by the start of Fiscal Year 2013.

DATES: Nominations should be submitted in time to arrive no later than May 4, 2012.

FOR FURTHER INFORMATION CONTACT: Nominators unable to submit nominations electronically as described below may submit a paper copy by the Designated Federal Officers for the committees, as identified below. General inquiries regarding the work of the CASAC and SAB or SAB committees may also be directed to them.

Background: Established by statute, the CASAC (42 U.S.C. 7409) and SAB (42 U.S.C. 4365) are EPA's chartered Federal Advisory Committees that provide independent scientific and technical peer review, consultation, advice and recommendations directly to the EPA Administrator on the scientific bases for EPA's actions and programs. Members of the CASAC and the SAB constitute a distinguished body of non-EPA scientists, engineers, economists, and behavioral and social scientists that are nationally and internationally recognized experts in their respective fields. Members are appointed by the EPA Administrator for a period of three years. This notice specifically requests nominations for the CASAC, the SAB, and SAB Committees from academia, industry, state and tribal governments, research institutes, and non-governmental organizations.

Expertise Sought for CASAC: Established in 1977 under the Clean Air Act (CAA) Amendments, the chartered CASAC reviews and offers scientific advice to the EPA Administrator on technical aspects of national ambient air quality standards for criteria pollutants (ozone, particulate matter, carbon monoxide, nitrogen oxides; sulfur dioxide, and lead). As required under the CAA section 109(d), CASAC will be composed of seven members, with at least one member of the National Academy of Sciences, one physician, and one person representing State air pollution control agencies. The SAB Staff Office is seeking nominations of experts to serve on the CASAC with demonstrated experience in the following science related to the environment: Health sciences; medicine; public health; atmospheric sciences; modeling; and/or risk assessment. The SAB Staff Office is especially interested in scientists with expertise described above who has knowledge and experience in air quality relating to criteria pollutants. For further information about the CASAC membership appointment process and schedule, please contact Dr. Holly Stallworth, DFO, by telephone at 202-564-2073 or by email at stallworth.holly@epa.gov.

Expertise Sought for the SAB: The SAB was established in 1978 by the Environmental Research, Development and Demonstration Act to provide independent advice to the Administrator on general scientific and technical matters underlying the Agency' policies and actions. All the work of the SAB is under the direction of the Board. The chartered SAB provides strategic advice to the EPA Administrator on a variety of EPA science and research programs, oversees and reviews all SAB committee and panel draft reports. The SAB Staff Office is seeking nominations of experts to serve on the chartered SAB in the following disciplines as they relate to the human health and the environment: Ecological sciences and ecological assessment; economics; engineering; medicine; health sciences; pediatrics; public health; human health risk assessment, social, behavioral and decision sciences; and modeling and statistics. The SAB Staff Office is especially interested in scientists with expertise described above who have knowledge and experience in air quality; climate change; energy and the environment; water quality; water quantity; water re-use; ecosystem services; community environmental health; sustainability; chemical safety; green chemistry; and homeland security. For further information about the SAB membership appointment process and schedule, please contact Dr. Angela Nugent, DFO, by telephone at 202-564-2218 or by email at nugent.angela@epa.gov. The SAB Staff Office is also seeking nominations for experts for four SAB Committees: The Drinking Water Committee, the Ecological Processes and Effects Committee; the Environmental Economics Advisory Committee; and the Radiation Advisory Committee.

The SAB Drinking Water Committee provides advice on the scientific and technical aspects of EPA's national drinking water program. The SAB Staff Office is seeking nominations of experts with experience on drinking water issues. Members should have one or more of the following disciplines: Epidemiology; engineering; microbiology; and public health. For further information about the DWC membership appointment process and schedule, please contact Mr. Thomas Carpenter, DFO, by telephone at 202-564-4885 or by email at carpenter.thomas@epa.gov.

The SAB Ecological Processes and Effects Committee provides advice on technical issues related to the science and research to protect and restore the health of ecosystems. The SAB Staff Office is seeking nominations of experts with demonstrated expertise in the following disciplines: Aquatic ecology; ecological risk assessment, ecotoxicology; landscape ecology, statistics; and terrestrial ecology. For further information about the EPEC membership appointment process and schedule, please contact Dr. Thomas Armitage, DFO, by telephone at 202-564-2155 or by email at armitage.thomas@epa.gov.

The SAB Environmental Economics Advisory Committee provides advice on methods and analyses related to economics, costs, and benefits of EPA environmental programs.

The SAB Environmental Economics Advisory Committee provides advice on methods and analyses related to economics, costs, and benefits of EPA environmental programs. The SAB Staff office is seeking nominations of experts in environmental economics to serve on the EEAC. For further information about the EEAC membership appointment process and schedule, please contact Dr. Holly Stallworth, DFO, by telephone at 202-564-2073 or by email at stallworth.holly@epa.gov.

The Radiation Advisory Committee provides advice on radiation protection, radiation science, and radiation risk assessment. The SAB Staff Office is seeking nominations of experts to serve on RAC with demonstrated expertise in the following disciplines: dosimetry; radiation biology; radiation epidemiology; radiation fate and transport monitoring and measurement; radiological health and physical sciences; risk assessment; and statistics. For further information about the RAC membership appointment process and schedule, please contact Dr. K. Jack Kooyoomjian, DFO, by telephone at 202-564-2064 or by email at kooyoomjian.jack@epa.gov

Selection Criteria for the CASAC, SAB and four SAB Committees includes:

—Demonstrated scientific credentials and disciplinary expertise in their own fields;

—Willingness to commit time to the committee and demonstrated ability to work constructively and effectively on committees;

—Absence of financial conflicts of interest;

—Absence of an appearance of a lack of impartiality;

—Background and experiences that would help members contribute to the diversity of perspectives on the committee, e.g., geographic, economic, social, cultural, educational backgrounds, professional affiliations; and other considerations; and

—For the committee as a whole, consideration of the collective breadth and depth of scientific expertise; and a balance of scientific perspectives.

How to Submit Nominations: Any interested person or organization may nominate qualified persons to be considered for appointment to this advisory committee. Individuals may self-nominate. Nominations should be submitted in electronic format (preferred) following the instructions for “Nominating Experts to the Chemical Assessment Advisory Committee” provided on the SAB Web site. The form can be accessed through the “Nomination of Experts” link on the blue navigational bar on the SAB Web site at http://www.epa.gov/sab. To be considered, all nominations should include the information requested. EPA values and welcomes diversity. In an effort to obtain nominations of diverse candidates, EPA encourages nominations of women and men of all racial and ethnic groups.

Nominators are asked to identify the specific committee for which nominees are to be considered. The following information should be provided on the nomination form: Contact information about the person making the nomination; contact information about the nominee; the disciplinary and specific areas of expertise of the nominee; the nominee's curriculum vita; and a biographical sketch of the nominee indicating current position, educational background; research activities; sources of research funding; and recent service on other national advisory committees or national professional organizations. To help the Agency in evaluating the effectiveness of its outreach efforts, please tell us how you learned of this nomination opportunity. Persons having questions about the nomination process or the public comment process described below, or who are unable to submit nominations through the SAB Web site, should contact the Designated Federal Officer for the committee, as identified above. The DFO will acknowledge receipt of nominations and in that acknowledgement will invite the nominee to provide any additional information that the nominee feels would be useful in considering the nomination, such as availability to participate as a member of the committee; how the nominee's background, skills and experience would contribute to the diversity of the committee; and any concerns the nominee has regarding membership. The names and biosketches of qualified nominees identified by respondents to this Federal Register notice, and additional experts identified by the SAB Staff, will be posted in a List of Candidates on the SAB Web site at http://www.epa.gov/sab. Public comments on this List of Candidates will be accepted for 21 days. The public will be requested to provide relevant information or other documentation on nominees that the SAB Staff Office should consider in evaluating candidates.

Candidates invited to serve will be asked to submit the “Confidential Financial Disclosure Form for Special Government Employees Serving on Federal Advisory Committees at the U.S. Environmental Protection Agency” (EPA Form 3110-48). This confidential form allows EPA to determine whether there is a statutory conflict between that person's public responsibilities as a Special Government Employee and private interests and activities, or the appearance of a lack of impartiality, as defined by Federal regulation. The form may be viewed and downloaded through the “Ethics Requirements for Advisors” link on the blue navigational bar on the SAB Web site at http://www.epa.gov/sab.

Dated: March 29, 2012.
Thomas H. Brennan,
Deputy Director, EPA Science Advisory Board Staff Office.

[FR Doc. 2012-8093 Filed 4-3-12; 8:45 am]

BILLING CODE 6560-50-P